DEPARTMENT OF HEALTH AND HUMAN SERVICES

Food and Drug Administration

[Docket No. FDA-2010-N-0001]

Office of Women's Health Update

AGENCY: Food and Drug Administration, HHS.

ACTION: Notice of meeting.

The Food and Drug Administration (FDA) is announcing the following meeting: Office of Women's Health (OWH) Update. The topics to be discussed are OWH current and future activities in the areas of women's health research and educational outreach.

Date and Time: The meeting will be held on Wednesday, September 22, 2010, 8:30 a.m. to 10 a.m.

Location: The meeting will be held at the Cohen Building, rm. 5051, 330 Independence Ave. SW., Washington, DC 20201.

Contact: Deborah L. Kallgren, Office of Women's Health, Food and Drug Administration, 10903 New Hampshire Ave., Bldg. 32, rm. 2314, Silver Spring, MD 20993-0002, 301-796-9442, FAX: 301-847-8604, email: deborah.kallgren@fda.hhs.gov.

Registration and Requests for Oral Presentations: There is no registration fee, but seating is limited to 20. Send registration information (including name, title, firm name, address, telephone, and fax number) to the contact person by September 13, 2010.

If you need special accommodations due to a disability, please contact Deborah L. Kallgren at least 7 days in advance.

Dated: August 27, 2010.
David Dorsey,
Acting Deputy Commissioner for Policy, Planning and Budget.

[FR Doc. 2010-21893 Filed 9-1-10; 8:45 am]

BILLING CODE 4160-01-S